DEPARTMENT OF THE INTERIOR

Bureau of Indian Affairs

[145A2100DD.AADD001000]

Advisory Board for Exceptional Children

AGENCY: Bureau of Indian Affairs, Interior.

ACTION: Notice of meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, July 17, 2014, from 8:30 a.m. to 4:00 p.m. and Friday, July 18, 2014, from 8:30 a.m. to 4:00 p.m. Mountain Time. Orientation for new members will be held Wednesday, July 16, 2014, from 8:30 a.m. to 4:00 p.m. Mountain Time.

ADDRESSES: The meeting will be held at the Manual Lujan, Jr. Building, 1011 Indian School Rd. NW., Rooms 231-232, Albuquerque, NM 87104.

FOR FURTHER INFORMATION CONTACT: Sue Bement, Designated Federal Officer, Bureau of Indian Education, Albuquerque Service Center, Division of Performance and Accountability (DPA), 1011 Indian School Road NW., Suite 332, Albuquerque, NM 87104; telephone number (505) 563-5274 or email sue.bement@bie.edu.

SUPPLEMENTARY INFORMATION: In accordance with the Federal Advisory Committee Act, the BIE is announcing that the Advisory Board will hold its next meeting in Albuquerque, NM. The Advisory Board was established under the Individuals with Disabilities Education Act of 2004 (20 U.S.C. 1400 et seq.) to advise the Secretary of the Interior, through the Assistant Secretary-Indian Affairs, on the needs of Indian children with disabilities. The meetings are open to the public.

The following items will be on the agenda:

• Remarks from BIE Director;

• Welcome from Associate Deputy Director, DPA/BIE;

• Report from, Supervisory Education Specialist, Special Education, DPA/BIE;

• Stakeholder input on BIE Special Education State Systemic Improvement Plan (SSIP);

• Discussion and selection of Advisory Board Priorities;

• Public Comment (via conference call, July 18, 2014, meeting only*); and

• BIE Advisory Board-Advice and Recommendations.

* During the July 18, 2014 meeting, time has been set aside for public comment via conference call from 1:30-2:00 p.m. Mountain Time. The call-in information is: Conference Number 1-888-417-0376, Passcode 1509140.

Advisory Board Members: * New or returning member

Dr. Jonathan Stout, Chair

Dr. Juan Portley *

Dr. Rose Dugi *

Dr. Marilyn Johnson

Dr. Billie Jo Kipp

Luvette Russell *

Ethleen Iron Cloud-Two Dogs

Maureen Diaz

Dr. Susan Faircloth

Jessica Wilson-Lucero

Dr. Kenneth Wong

Dr. Delores Gokee-Rindal *

Dr. Judith Hankes *

Dr. Harvey Rude *

Dated: June 16, 2014.
Kevin K. Washburn,
Assistant Secretary—Indian Affairs.

[FR Doc. 2014-14600 Filed 6-20-14; 8:45 am]

BILLING CODE 4310-6W-P